DEPARTMENT OF HOMELAND SECURITY

Rescission of Determination Pursuant to Section 102 of the Illegal Immigration Reform and Immigrant Responsibility Act of 1996, as Amended

AGENCY: Office of the Secretary, (DHS).

ACTION: Notice of rescission of determination.

SUMMARY: On May 15, 2020, the Acting Secretary of Homeland Security published a Notice of Determination Pursuant to Section 102 of the Illegal Immigration Reform and Immigrant Responsibility Act of 1996, as Amended, to waive legal requirements related to the construction of barriers and roads. (May 2020 Notice of Determination). The Secretary of Homeland Security through this notice rescinds the May 2020 Notice of Determination.

DATES: This Notice takes effect on June 30, 2023.

SUPPLEMENTARY INFORMATION: Section 102(c) of the Illegal Immigration Reform and Immigrant Responsibility Act of 1996, as Amended, provides the Secretary of Homeland Security with the sole discretion to waive all legal requirements related to the construction of barriers and roads. Public Law 104-208, Div. C, 110 Stat. 3009-546, 3009-554 (Sept. 30, 1996) (8 U.S.C 1103 note), as amended by the REAL ID Act of 2005, Public Law 109-13, Div. B, 119 Stat. 231, 302, 306 (May 11, 2005) (8 U.S.C. 1103 note), as amended by the Secure Fence Act of 2006, Public Law 109-367, section 3, 120 Stat. 2638 (Oct. 26, 2006) (8 U.S.C. 1103 note), as amended by the Department of Homeland Security Appropriations Act, 2008, Public Law 110-161, Div. E, Title V, section 564, 121 Stat. 2090 (Dec. 26, 2007). Any such waivers shall be effective upon being published in the Federal Register. On May 15, 2020, the Acting Secretary of Homeland Security issued a Federal Register notice determining that it was “necessary to waive certain laws, regulations, and other legal requirements in order to ensure the expeditious construction of barriers and roads in the vicinity of the international land border in Webb County, Texas, and Zapata County, Texas.” See 85 FR 29472. Through this Notice, the Secretary of Homeland Security hereby rescinds the May 15, 2020 Notice of Determination.

This rescission of the May 15, 2020 Notice of Determination does not rescind or supersede any other waiver determination made pursuant to section 102(c) of IIRIRA. Such waivers shall remain in full force and effect in accordance with their terms.

Alejandro N. Mayorkas,
Secretary, U.S. Department of Homeland Security.

[FR Doc. 2023-13924 Filed 6-29-23; 8:45 am]

BILLING CODE 9111-14-P